SECURITIES AND EXCHANGE COMMISSION

[SEC File No. 270-126, OMB Control No. 3235-0287]

Submission for OMB Review; Comment Request; Extension: Form 4—Statement of Changes in Beneficial Ownership of Securities

Upon Written Request Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) has submitted to the Office of Management and Budget this request for extension of the previously approved collection of information discussed below.

Under the Exchange Act of 1934 (15 U.S.C. 78a et seq.) every person who is directly or indirectly the beneficial owner of more than 10 percent of any class of any equity security (other than an exempted security) which registered under Section 12 of the Exchange Act (15 U.S.C. 78l), or who is a director or any officer of the issuer of such security (collectively “insider), must file a statement with the Commission reporting their ownership. Form 4 is a statement to disclose changes in an insider's ownership of securities. The information is used for the purpose of disclosing the equity holdings of insiders of reporting companies. Approximately 186,052 insiders file Form 4 annually and it takes approximately 0.5 hours to prepare for a total of 93,026 annual burden hours (0.5 hours per response × 93,026 responses).

Public Comment Instructions: The 30-day public comment period for this information collection request opens on December 10, 2024 and closes at the end of the day on January 9, 2025. The public may view the full information request and submit comments at https://www.reginfo.gov/public/do/PRAViewICR?ref_nbr=202412-3235-003 or email comments to MBX.OMB.OIRA.SEC_desk_officer@omb.eop.gov.

Dated: December 4, 2024.
Sherry R. Haywood,
Assistant Secretary.

[FR Doc. 2024-28834 Filed 12-6-24; 8:45 am]

BILLING CODE 8011-01-P